DEPARTMENT OF ENERGY

Federal Energy Regulatory Commission

[Docket No. EL12-4-000]

Westar Energy, Inc.; Notice of Initiation of Proceeding and Refund Effective Date

On November 17, 2011, the Commission issued an order that initiated a proceeding in Docket No. EL12-4-000, pursuant to section 206 of the Federal Power Act (FPA), 16 U.S.C. 824e (2006), to determine the justness and reasonableness of the generation regulation charges under Schedule 3A of Westar Energy, Inc.'s Open Access Transmission Tariff. Westar Energy, Inc., 137 FERC ¶ 61,142 (2011).

The refund effective date in Docket No. EL12-4-000, established pursuant to section 206(b) of the FPA, will be the date of publication of this notice in the Federal Register.

Dated: November 18, 2011.
Nathaniel J. Davis, Sr.,
Deputy Secretary.

[FR Doc. 2011-30342 Filed 11-23-11; 8:45 am]

BILLING CODE 6717-01-P